DEPARTMENT OF COMMERCE

Foreign-Trade Zones Board

[B-60-2015]

Authorization of Production Activity; Foreign-Trade Zone 84, Mitsubishi Caterpillar Forklift America, Inc. (Forklift Trucks), Houston, Texas

On August 13, 2015, Mitsubishi Caterpillar Forklift America Inc., an operator of FTZ 84, submitted a notification of proposed production activity to the Foreign-Trade Zones (FTZ) Board for its facilities in Houston, Texas.

The notification was processed in accordance with the regulations of the FTZ Board (15 CFR part 400), including notice in the Federal Register inviting public comment (80 FR 55087, September 14, 2015). The FTZ Board has determined that no further review of the activity is warranted at this time. The production activity described in the notification is authorized, subject to the FTZ Act and the FTZ Board's regulations, including Section 400.14.

Dated: December 17, 2015.
Andrew McGilvray,
Executive Secretary.

[FR Doc. 2015-32334 Filed 12-22-15; 8:45 am]

BILLING CODE 3510-DS-P